DEPARTMENT OF THE INTERIOR

Bureau of Land Management

[AK-910-06-1739-NSSI]

Notice of Public Meeting, North Slope Science Initiative, Science Technical Group

AGENCY: Bureau of Land Management, Alaska State Office, North Slope Science Initiative, Interior.

ACTION: Notice of public meeting.

SUMMARY: In accordance with the Federal Land Policy and Management Act (FLPMA) and the Federal Advisory Committee Act of 1972 (FACA), the U.S. Department of the Interior, North Slope Science Initiative (NSSI) Science Technical Group (STG) will meet as indicated below.

DATES: The meeting will be held April 25-26, 2006 in Fairbanks, Alaska. On April 25 the meeting will begin at 10 a.m. at the University of Alaska Fairbanks International Arctic Research Center, Room 401. On April 26, the meeting will begin at 8:30 a.m. at the same location, and the public comment period starts at 3 p.m.

FOR FURTHER INFORMATION CONTACT: Ken Taylor, Executive Director, North Slope Science Initiative (910), Bureau of Land Management, 222 W. Seventh Avenue, #13, Anchorage, Alaska 99513. Telephone (907) 271-3131 or e-mail kenton_taylor@ak.blm.gov.

SUPPLEMENTARY INFORMATION: The North Slope Science Initiative, Science Technical Group provides advice and recommendations to the North Slope Science Oversight Group (OG) regarding priority needs for management decisions across the North Slope of Alaska. These priority needs may include recommendations on inventory, monitoring and research activities that lead to informed land management decisions. At this meeting, topics will include:

• Energy Policy Act and NSSI.

• Foreseeable developments over the next 20 yrs by member agencies.

• Expectations of OG and STG members.

• Priority issues and projects for NSSI.

• Other topics the OG or STG may raise.

All meetings are open to the public. The public may present written comments to the Science Technical Group. Each formal meeting will also have time allotted for hearing public comments. Depending on the number of persons wishing to comment and time available, the time for individual oral comments may be limited. Individuals who plan to attend and need special assistance, such as sign language interpretation, transportation, or other reasonable accommodations, should contact the North Slope Science Initiative staff.

Dated: March 15, 2006.
Julia Dougan,
Acting Alaska State Director.

[FR Doc. E6-4081 Filed 3-20-06; 8:45 am]

BILLING CODE 4310-JA-P